DEPARTMENT OF THE INTERIOR

Bureau of Ocean Energy Management

Extension of Post-Sale Evaluation Period for Consolidated Central Gulf of Mexico Planning Area Lease Sale 216/222

AGENCY: Bureau of Ocean Energy Management (BOEM), Interior.

ACTION: Notice to extend post-sale evaluation period.

SUMMARY: This notice extends through October 18, 2012, the post-sale evaluation period for Consolidated Central Gulf of Mexico Planning Area Lease Sale 216/222. BOEM will complete the evaluation process for all bids received in this sale by October 18, 2012. This action is necessary due to the temporary closure of the BOEM Regional Office building in New Orleans and other effects of the recent hurricane impacting the region.

DATES: The post-sale evaluation period for this sale will conclude on October 18, 2012.

SUPPLEMENTARY INFORMATION: In connection with the Consolidated Central Gulf of Mexico Lease Sale 216/222, held June 20, 2012, BOEM received 593 bids on 454 tracts. On July 10, 2012, the high bids on 63 tracts were accepted and bids on another 391 tracts were passed to Phase 2 of the post-sale evaluation period for detailed evaluation. As of September 14, 2012, BOEM had completed the evaluation and deemed acceptable the high bids offered on 203 of the tracts passed to Phase 2. BOEM is continuing the evaluation process of bids for the remaining 188 tracts.

On August 27, 2012, BOEM personnel reported to work to carry out activities outlined in the Bureau of Safety and Environmental Enforcement and Bureau of Ocean Energy Management Gulf of Mexico Region Emergency/Hurricane Preparedness Plan. Upon completion of the tasks, the Gulf of Mexico Regional Office building in New Orleans was closed at 3:00 p.m. local time. Many BOEM employees and their families evacuated the area ahead of the storm. On August 29, 2012, Hurricane Isaac made landfall along the northern Gulf Coast, just south of the New Orleans metropolitan area. Heavy rainfall and high winds caused flooding and damage to homes, businesses, and properties in the area. The New Orleans area experienced widespread power outages that affected nearly every resident. BOEM's Regional Office building in New Orleans received minor water damage to office space on 4 floors in the building, including offices occupied by key personnel directly involved in the post-sale evaluation process.

As a result of these extraordinary circumstances, BOEM requires additional time to complete the bid review process, originally scheduled to conclude within 90 days following the Sale 216/222 sale date, that is, by September 18, 2012. Under the provisions of 30 CFR 556.47(e)(2), BOEM is extending the bid evaluation period until October 18, 2012.

FOR FURTHER INFORMATION CONTACT: David Cooke, Regional Supervisor, Office of Resource Evaluation, Gulf of Mexico Region, telephone 504-736-2710.

Dated: September 18, 2012.
Walter D. Cruickshank,
Deputy Director, Bureau of Ocean and Energy Management.

[FR Doc. 2012-23678 Filed 9-25-12; 8:45 am]

BILLING CODE 4310-MR-P